DEPARTMENT OF TRANSPORTATION

Federal Aviation Administration

14 CFR Part 39

[Docket No. 2002-NM-97-AD; Amendment 39-13863; AD 2004-23-08]

RIN 2120-AA64

Airworthiness Directives; Airbus Model A300 B4-600R and A300 F4-600R Series Airplanes

AGENCY: Federal Aviation Administration, DOT.

ACTION: Final rule.

SUMMARY: This amendment supersedes an existing airworthiness directive (AD), applicable to Airbus Model A300 B4-600R and A300 F4-600R series airplanes, that currently requires a one-time detailed inspection for damage of the center tank fuel pumps and fuel pump canisters, and replacement of damaged fuel pumps and fuel pump canisters with new or serviceable parts. That AD also requires repetitive detailed inspections of the fuel pumps and repetitive eddy current inspections of the fuel pump canisters, and replacement of damaged fuel pumps and fuel pump canisters with new or serviceable parts. This amendment mandates modification of the canisters of the center tank fuel pumps, which would terminate the repetitive inspections required by the existing AD. The actions specified by this AD are intended to prevent damage to the fuel pump and fuel pump canister, which could result in loss of flame trap capability and could provide a fuel ignition source in the center fuel tank. This action is intended to address the identified unsafe condition.

DATES: Effective December 20, 2004.

The incorporation by reference of Airbus Service Bulletin A300-28-6069, Revision 01, dated May 28, 2002; and Airbus Service Bulletin A300-28-6061, Revision 04, dated August 1, 2002; as listed in the regulations, is approved by the Director of the Federal Register as of December 20, 2004.

The incorporation by reference of Airbus All Operators Telex (AOT) 28-09, dated November 28, 1998, as listed in the regulations, was approved previously by the Director of the Federal Register as of December 28, 1998 (63 FR 70639, December 22, 1998).

The incorporation by reference of Airbus Alert Service Bulletin A300-28A6061, dated February 19, 1999, as listed in the regulations, was approved previously by the Director of the Federal Register as of February 8, 2000 (65 FR 213, January 4, 2000).

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION: A proposal to amend part 39 of the Federal Aviation Regulations (14 CFR part 39) by superseding AD 99-27-07, amendment 39-11488 (65 FR 213, January 4, 2000), which is applicable to all Airbus Model A300 B4-600R and A300 F4-600R series airplanes, was published in the Federal Register on September 9, 2003 (68 FR 53058). The action proposed to continue to require a one-time visual inspection for damage of the center tank fuel pumps and fuel pump canisters, and replacement of damaged fuel pumps and fuel pump canisters with new or serviceable parts. The action also proposed to continue to require repetitive detailed inspections for damage of the fuel pumps and repetitive eddy current inspections of the fuel pump canisters, and replacement of damaged fuel pumps and fuel pump canisters with new or serviceable parts. The action also proposed to mandate modification of the canisters of the center tank fuel pumps, which would terminate the repetitive inspections required by the existing AD.

Comments

Interested persons have been afforded an opportunity to participate in the making of this amendment. Due consideration has been given to the comments received.

Request To Change Compliance Time

One commenter requests that the compliance time for the terminating action (modification) specified in paragraph (d) of the proposed AD be changed to “Prior to the accumulation of 5,000 total hours, time-in-service, or within 18 months after the effective date of this AD, whichever occurs later.” The commenter notes that an equivalent level of safety is maintained by this change, as the change will still require the modification to be done prior to the first inspection required by AD 99-27-07. The commenter adds that this change will minimize the hardship of implementing the proposed AD.

The FAA does not agree, as repetitive inspections for cracks are not equivalent to replacement of the canisters of the center tank fuel pumps with improved canisters for continued operational safety. Cracked canisters continue to be detected during the mandated inspections, but in view of the potential unsafe condition, we find that modification of the canisters by installation of reinforced canisters that are not subject to cracking must be done. In addition, inclusion of a 5,000 flight hour compliance time could allow certain low-time airplanes an additional year before accomplishment of the canister replacement. We do not find it necessary to change the AD in this regard. However, the commenter may request approval of an alternative method of compliance from the FAA, in accordance with paragraph (g)(1) of this AD, if technical justification, substantiation of need, and a satisfactory retrofit status of the commenter's fleet with the new canister are provided.

Clarification of Terminating Action

One commenter states that paragraph (d) of the proposed AD (New Requirements of This AD) specifies that accomplishment of Airbus Service Bulletin A300-28-6069, Revision 01, dated May 28, 2002 (modification of the canisters of the center tank fuel pumps) ends the repetitive inspections required by paragraph (b) of the proposed AD. The commenter adds that initial accomplishment of the paragraph (b) inspection would terminate the repetitive inspections required by paragraph (a) of the proposed AD. The commenter notes that, as written, the proposed AD seems to require the initial accomplishment of the inspection required by paragraph (b) to terminate the repetitive inspections. The commenter asks for clarification of the intent of the AD.

As requested, we provide the following clarification: The AD does require accomplishment of the initial inspection required by paragraph (b) of this AD to terminate the repetitive inspections required by paragraph (a) of this AD. The repetitive inspections specified in paragraphs (a) and (b) of the AD are required by AD 99-27-07 (Restatement of Requirements of AD 99-27-07), and continue to be required by this AD until the terminating action is done. The new requirements that mandate modification of the canisters of the center tank fuel pumps, as specified in paragraph (d) of this AD, terminate those repetitive inspections.

Request To Change Terminating Action to Optional

One commenter states that AD 99-27-07 addresses the unsafe condition identified by that rule, and adds that the proposed AD does not provide justification for mandating the terminating action. The commenter provides the following reasons for changing the terminating action in the proposed AD to an optional action.

• The proposed AD does not specifically identify an additional unsafe condition, so there is no need to add further financial burden for operators without justifiable cause.

• Operators favor the use of terminating action in lieu of repetitive inspections; however, where either solution offers the same level of safety, this decision becomes a matter of economics.

• There is no safety benefit identified for the terminating action, so the decision to continue to inspect, or implement the terminating action, should remain at the option of the operator.

The commenter adds that there is no reasonable basis for the 18-month compliance time for the terminating action, as it appears arbitrary. Due to the current economic conditions of the airline industry, operators should be given the option of replacing the canister with the improved design, or continuing the scheduled inspections and replacing the canister only if a crack is found during the inspection. The commenter adds that the scheduled inspections, when done in accordance with AD 99-27-07, will provide a level of safety equivalent to that provided by the proposed AD.

We do not agree. The unsafe condition specified in AD 99-27-07 has not been corrected; therefore, an additional unsafe condition does not need to be added to this AD, as there has been no final fix until now. Although we acknowledge the commenter's concerns regarding further financial burden on operators, the FAA, in conjunction with the Direction Générale de l'Aviation Civile (DGAC), which is the airworthiness authority for France, is mandating the terminating action based on the determination that, in this case, long-term continued operational safety would be better assured by a modification to remove the source of the problem, rather than by continued repetitive inspections. We consider the existing canisters of the center fuel tank to be a safety issue of sufficient significance to warrant modification of the canisters. Relying on continued repetitive inspections as an option to the modification does not ensure that affected airplanes will receive appropriately modified canisters in a timely manner, or at all.

The fuel pump canister is intended to contain or trap any potential fuel pump ignition sources and consequent flames in the canister, and keep them from entering the fuel tank. A crack in the fuel pump canister has the potential to eliminate the canister fire trap capability and provide an ignition source to the center tank fuel pump. The new, improved canisters have been strengthened by thicker and re-profiled webs, the fuel aperture corner radius has been increased, the non-return valve has been strengthened, and the attachment fasteners have been increased from four to six inches. A canister locating pin (foolproofing pin) is also installed by this modification, which will prevent the installation of unmodified fuel booster-pump canisters. Accordingly, no change to the AD is made in this regard.

Request To Change Cost Analysis

The same commenter states that the proposed AD lacks adequate cost analysis. The commenter states that the cost of the canister is omitted, and specifies the cost as $4,660 per canister. The commenter adds that the actual cost of the proposed AD, using actual industry wages and the omitted cost for parts, would be $10,548 per airplane or $886,032; not the $76,660 cost calculated by the FAA.

After considering the data presented by the commenter, we agree that the parts cost for the canisters was omitted. The cost of each canister is $4,660. The cost impact information, below, has been revised to indicate this higher amount.

Economic Analysis

The same commenter states that it appreciates the FAA economic analysis for using work time estimates consistent with industry experience; however, the FAA labor rate remains much lower than actual industry costs. The commenter adds that the average airline industry labor rate is currently $98 per work hour.

We point out that our estimate of $65 per work hour is the current burdened labor rate established for use by the Office of Aviation Policy, Plans, and Management Analysis. (The burdened labor rate includes the actual labor cost, overhead, and other related costs.) Because the labor rate used in our calculations accounts for the variations in costs among those in the airline industry, we consider that $65 per work hour is appropriate. Accordingly, no change to the AD is made in this regard.

Explanation of Change Made to Proposed AD

We have clarified the inspection requirement contained in the proposed AD. Whereas the proposed AD specifies a visual inspection, we have revised this final rule to clarify that our intent is to require a detailed inspection. Additionally, a new note has been added to the final rule to define that inspection.

Conclusion

We have carefully reviewed the available data, including the comments that have been submitted, and determined that air safety and the public interest require adopting the AD with the changes described previously. We have determined that these changes will neither significantly increase the economic burden on any operator nor increase the scope of the AD.

Cost Impact

This AD will affect about 84 airplanes of U.S. registry.

The inspections that are required by AD 99-27-07 take about 2 work hours per airplane to accomplish, at an average labor rate of $65 per work hour. Based on these figures, the cost impact of the currently required actions is estimated to be $130 per airplane, per inspection cycle.

The inspections required by AD 99-27-07 were applicable to about 67 airplanes. Based on the figures discussed above, the cost impact of the current requirements of that AD on U.S. operators is estimated to be $8,710.

In this AD, the inspections are applicable to about 17 additional airplanes. Based on the figures discussed above, the new costs to U.S. operators that will be imposed by this AD are estimated to be $2,210.

The new modification required by this AD action will take about 11 work hours per airplane to accomplish, at an average labor rate of $65 per work hour. Required parts will cost about $9,620 per airplane. Based on these figures, the cost impact of the modification on U.S. operators is estimated to be $868,140, or $10,335 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11488 (65 FR 213, January 4, 2000), and by adding a new airworthiness directive (AD), amendment 39-13863, to read as follows:

2004-23-08 Airbus: Amendment 39-13863. Docket 2002-NM-97-AD. Supersedes AD 99-27-07, Amendment 39-11488.

Applicability: Model A300 B4-600R and A300 F4-600R series airplanes, certificated in any category, on which Airbus Modification 4801 (trim tank system) has been accomplished.

Compliance: Required as indicated, unless accomplished previously.

To prevent damage to the fuel pump and fuel pump canister, which could result in loss of flame trap capability and could provide a fuel ignition source in the center fuel tank, accomplish the following:

Restatement of Requirements of AD 99-27-07

Inspections

(a) Prior to the accumulation of 5,000 total hours, time-in-service or within 250 hours time-in-service after February 8, 2000 (the effective date of AD 99-27-07, amendment 39-11488), whichever occurs later, perform a detailed inspection for damage of the center tank fuel pumps and fuel pump canisters, in accordance with Airbus All Operators Telex (AOT) 28-09, dated November 28, 1998. Repeat the inspection prior to the accumulation of 12,000 total hours time-in-service, or within 250 hours time-in-service after accomplishment of the initial inspection, whichever occurs later. Thereafter, repeat the inspection at intervals not to exceed 250 hours time-in-service, until accomplishment of the initial inspection required by paragraph (b) of this AD.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(b) At the applicable time specified in paragraph (b)(1), (b)(2), or (b)(3) of this AD: Perform a detailed inspection to detect damage of the center tank fuel pumps and perform an eddy current inspection to detect damage of the fuel pump canisters, in accordance with Airbus Alert Service Bulletin A300-28A6061, dated February 19, 1999; or Airbus Service Bulletin A300-28-6061, Revision 04, dated August 1, 2002. Repeat the inspections thereafter at intervals not to exceed 1,500 flight cycles, until accomplishment of paragraph (d) of this AD. Accomplishment of the initial inspections required by this paragraph constitutes terminating action for the requirements of paragraph (a) of this AD.

(1) For airplanes that have accumulated 11,000 or more total flight cycles as of February 8, 2000: Inspect within 300 flight cycles after February 8, 2000.

(2) For airplanes that have accumulated 8,500 or more total flight cycles, but fewer than 11,000 total flight cycles, as of February 8, 2000: Inspect within 750 flight cycles after February 8, 2000.

(3) For airplanes that have accumulated fewer than 8,500 total flight cycles as of February 8, 2000: Inspect prior to the accumulation of 7,000 flight cycles, or within 1,500 flight cycles after February 8, 2000, whichever occurs later.

Corrective Action

(c) If any damage is detected during any inspection required by this AD, prior to further flight, replace the damaged fuel pump or fuel pump canister with a new or serviceable part in accordance with Airbus Alert Service Bulletin A300-28A6061, dated February 19, 1999; or Airbus Service Bulletin A300-28-6061, Revision 04, dated August 1, 2002.

New Requirements of This AD

Modification

(d) Within 18 months after the effective date of this AD: Modify the canisters of the center tank fuel pumps (including an operational test) by doing all the actions per paragraphs 3.A., 3.B., 3.C., and 3.D. of the Accomplishment Instructions of Airbus Service Bulletin A300-28-6069, Revision 01, dated May 28, 2002. Accomplishment of this modification ends the repetitive inspections required by paragraph (b) of this AD.

(e) Accomplishment of the modification before the effective date of this AD per Airbus Service Bulletin A300-28-6069, dated September 4, 2001, is acceptable for compliance with the modification required by paragraph (d) of this AD.

Alternative Methods of Compliance

(f)(1) In accordance with 14 CFR 39.19, the Manager, International Branch, ANM-116, FAA, is authorized to approve alternative methods of compliance for this AD.

(2) Alternative methods of compliance, approved previously in accordance with AD 99-27-07, amendment 39-11488, are approved as alternative methods of compliance with the applicable actions in this AD.

Incorporation by Reference

(g) The actions shall be done in accordance with the applicable service information listed in Table 1 of this AD, unless the AD specifies otherwise.

Table 1.—Materials Incorporated by Reference
Airbus service information | Revision level | Date
All Operators Telex 28-09 | Original | November 28, 1998.
Alert Service Bulletin A300-28A6061 | Original | February 19, 1999.
Service Bulletin, A300-28-6061 | 04 | August 1, 2002.
Service Bulletin, A300-28-6069 | 01 | May 28, 2002.

(1) The incorporation by reference of Airbus Service Bulletin A300-28-6069, Revision 01, dated May 28, 2002; and Airbus Service Bulletin A300-28-6061, Revision 04, dated August 1, 2002; is approved by the Director of the Federal Register in accordance with 5 U.S.C. 552(a) and 1 CFR part 51.

(2) The incorporation by reference of Airbus All Operators Telex (AOT) 28-09, dated November 28, 1998, was approved previously by the Director of the Federal Register as of December 28, 1998 (63 FR 70639, December 22, 1998).

(3) The incorporation by reference of Airbus Alert Service Bulletin A300-28A6061, dated February 19, 1999, was approved previously by the Director of the Federal Register as of February 8, 2000 (65 FR 213, January 4, 2000).

(4) Copies may be obtained from Airbus, 1 Rond Point Maurice Bellonte, 31707 Blagnac Cedex, France. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Note 2: The subject of this AD is addressed in French airworthiness directive 2002-132(B), dated March 20, 2002.

Effective Date

(h) This amendment becomes effective on December 20, 2004.

Issued in Renton, Washington, on November 1, 2004.
Ali Bahrami,
Manager, Transport Airplane Directorate, Aircraft Certification Service.

[FR Doc. 04-24930 Filed 11-12-04; 8:45 am]

BILLING CODE 4910-13-P